DEPARTMENT OF THE TREASURY

Internal Revenue Service

26 CFR Part 31

[REG-116641-01]

RIN 1545-BA17

Information Reporting and Backup Withholding for Payment Card Transactions; Correction

AGENCY: Internal Revenue Service (IRS), Treasury.

ACTION: Correction to notice of proposed rulemaking; notice of proposed rulemaking by cross-reference to temporary regulations; and notice of public hearing.

SUMMARY: This document contains corrections to a notice of proposed rulemaking; notice of proposed rulemaking by cross-reference to temporary regulations; and notice of public hearing. (REG-116641-01) which was published in the Federal Register on Friday, January 31, 2003 (68 FR 4970). This regulation relates to the IRS Taxpayer Identification Number (TIN) Matching Program. The text of the temporary regulations published in the Rules and Regulations section of this issue of the Federal Register serves as the text of this portion of the proposed regulations. This document also contains proposed regulations relating to the information reporting requirements, information reporting penalties, and backup withholding requirements for payment card transactions.

FOR FURTHER INFORMATION CONTACT: Donna Welch at (202) 622-4910 (not a toll-free number).

SUPPLEMENTARY INFORMATION:

Background

The proposed regulations that are the subject of these corrections are under section 3406 of the Internal Revenue Code.

Need for Correction

As published, this notice of proposed rulemaking contains errors that may prove to be misleading and are in need of clarification.

Correction of Publication

Accordingly, the publication of the notice of proposed rulemaking, (REG-116641-01), which is the subject of FR. Doc. 03-2208, is corrected as follows:

1. On page 4971, column 1, in the preamble, paragraph 1, line 4, the language “payments. Section 1.6041-3(q)(1)” is corrected to read “payments. Section 1.6041-3(p)(1)”.

§ 31.3406(g)-1 [Corrected]

2. On page 4973, column 1, § 31.3406(g)-1(f)(1)(ii), line 7, the language “payee is a not a qualified payee” is corrected to read “payee is not a qualified payee”.

Cynthia E. Grigsby,
Chief, Regulations Unit, Associate Chief Counsel (Procedure and Administration).

[FR Doc. 03-7267 Filed 3-27-03; 8:45 am]

BILLING CODE 4830-01-P